DEPARTMENT OF DEFENSE

Department of the Army

Draft Environmental Impact Statement and Draft Finding of No Practicable Alternative for the Proposed Heavy Off-Road Mounted Maneuver Training Area at Fort Benning, Georgia

AGENCY: Department of the Army, DoD.

ACTION: Notice of availability.

SUMMARY: The Department of the Army (Army) announces the availability of the Draft Environmental Impact Statement (EIS) for the proposed Heavy Off-Road Mounted Maneuver Training Area (HOMMTA) at Fort Benning, Georgia. In accordance with the National Environmental Policy Act (NEPA), the Draft EIS analyzes the potential environmental and socioeconomic impacts, and recommends related mitigation measures, associated with constructing, operating, and maintaining a HOMMTA of at least 2,400 contiguous acres at Fort Benning to support off-road mounted maneuver (Proposed Action). The Proposed Action would support the Maneuver Center of Excellence (MCoE) in its mission to train the maneuver forces of the Army and would increase the total amount of heavy off-road maneuver training area on Fort Benning, enabling Fort Benning to conduct realistic training in accordance with current Army training requirements. The Proposed Action would provide a training area to meet existing training needs; it would not result in additional Soldiers, traffic, or any training off of the Installation. Training land development would occur over a 2- to 3-year period; development would primarily include vegetation removal and the construction of tank trails, culverted water crossings, and road upgrades, as well as burying existing overhead utilities. As feasible, buffers would be used to protect environmentally sensitive resources such as streams, wetlands, cemeteries, and archaeological sites. A Draft Finding of No Practicable Alternative (FONPA) addressing potential impacts on wetlands and 100-year floodplains is also available in the Draft EIS for comment.

DATES: Comments must be received by July 13, 2020 to be considered in the preparation of the Final EIS.

ADDRESSES: Please send written comments to Fort Benning Environmental Management Division, Attn: NEPA Program Manager, 6650 Meloy Drive, Building 6, Room 309, Fort Benning, Georgia 31905-5122, or email comments to john.e.brown12.civ@mail.mil.

FOR FURTHER INFORMATION CONTACT: Please contact Mr. John Brown, Fort Benning Environmental Management Division, at (706) 545-7549 between 9 a.m. and 4 p.m. ET. Fort Benning has also established a web page that contains information updates and background on the HOMMTA and the EIS at https://www.benning.army.mil/Garrison/DPW/EMD/HOMMTA/.

SUPPLEMENTARY INFORMATION: Fort Benning plays a critical role in supporting the Army's overarching mission. As the Army's MCoE, the home of the Army's Armor and Infantry Schools, Fort Benning must support the institutional training of Infantry and Armor Soldiers and leaders. The institutional training conducted at Fort Benning provides Army leaders with the opportunity to respond to a wide variety of situations that they can expect to encounter on the modern battlefield. Fort Benning is also home to several deployable units that conduct off- road mounted maneuver training, including the 1st Security Force Assistance Brigade, Task Force 1-28 Infantry, and elements of the 75th Ranger Regiment.

Fort Benning must be able to train and develop highly skilled and cohesive units capable of conducting operations across the full spectrum of potential conflicts. Inherent in and vital to training Infantry and Armor Soldiers and leaders properly is the requirement to provide sufficient heavy off-road mounted maneuver training area. Currently, the only training area at Fort Benning suitable for heavy off-road mounted maneuver training is the Good Hope Maneuver Training Area (GHMTA).

Since the initial development of the GHMTA, the Army's training strategy has changed to “cross-domain movement and maneuver” that requires additional contiguous area for heavy off-road maneuver. In an attempt to accommodate this requirement, the Army continued to improve the off-road maneuver area within the GHMTA. Despite these improvements, the existing GHMTA landscape contains slopes, streams, wetlands, and other limitations that cannot support the increased maneuver training requirements of the MCoE and Fort Benning's tenant units. As such, Fort Benning proposes to construct a new HOMMTA with sufficient contiguous area to enable all units and courses to complete required cross-domain movement and maneuver training.

The Draft EIS analyzes the potential environmental and socioeconomic impacts associated with the Proposed Action, including direct, indirect, and cumulative effects. Mitigation of adverse effects through avoidance and environmentally sensitive design, such as establishment of buffers, would be used to avoid impacts to sensitive resources to the maximum extent practicable. Where these efforts are not sufficient to avoid adverse effects, the Draft EIS recommends additional mitigation measures that the Army may implement to further reduce identified adverse impacts.

In support of the EIS, the Army is also preparing other studies, analyses, and permit applications to meet Federal requirements, such as Section 7 of the Endangered Species Act, Sections 401 and 404 of the Clean Water Act (CWA), and Section 106 of the National Historic Preservation Act.

The Army identified three reasonable Action Alternatives that would meet the purpose of and need for the Proposed Action; these three Action Alternatives (i.e., three distinct locations on Fort Benning where a HOMMTA could be constructed) are analyzed in detail in the Draft EIS.

1. Alternative 1 (Preferred Alternative): Northern Mounted Maneuver Training Area Alternative: This alternative includes approximately 4,724 acres and is located adjacent to and east of the current Northern Maneuver training Area and west of and near Fort Benning's Digital Multi-Purpose Range Complex (DMPRC).

Of the Action Alternatives, Alternative 1 would provide the most preferable size and configuration to enable high-quality heavy off-road mounted maneuver training. Accordingly, the Army has identified Alternative 1 as the Preferred Alternative to implement the Proposed Action.

2. Alternative 2: Red Diamond Alternative: This alternative includes approximately 3,744 acres and is located south of the Southern Maneuver Training Area (SMTA) near the Installation's southern boundary.

3. Alternative 3: Eastern Boundary Alternative: This alternative includes approximately 2,405 acres and is located between the northern dudded impact area and the Installation's eastern boundary.

The Army also carried forward the No Action Alternative for detailed analysis in the Draft EIS. While the No Action Alternative would not satisfy the purpose of or need for the Proposed Action, this Alternative was retained to provide a comparative baseline against which to analyze the effects of the Action Alternatives as required under the Council on Environmental Quality's NEPA Regulation.

Resource areas analyzed in the Draft EIS include: Land use (recreation), air quality, noise, soils and topography, water resources, biological resources, cultural resources, socioeconomics, infrastructure, and hazardous and toxic materials and waste.

Based on the analysis presented in the Draft EIS, potentially significant adverse impacts could occur to biological resources (i.e., from disturbance of unique ecological areas). Impacts to all other resource areas would be less-than- significant adverse (i.e., negligible, minor, or moderate), or beneficial. Recommended mitigation measures are presented in the Draft EIS to reduce potential adverse effects.

All Action Alternatives for the Proposed Action may adversely impact wetlands and/or 100-year floodplains. Accordingly, the Army has also prepared a Draft FONPA to comply with Executive Order (E.O.) 11988, Floodplain Management, and E.O. 11990, Protection of Wetlands. As described in the Draft EIS, environmental protection measures (e.g., buffers from heavy maneuver training) and regulatory compliance measures (e.g., permitting under Sections 401 and 404 of the CWA) would be implemented to minimize adverse impacts on these resources.

Government agencies, Native American Tribes, and the public are invited to review and comment on the Draft EIS. The public comment period begins with the publication of this Notice of Availability in the Federal Register and will last for 45 days. The Draft EIS and Draft FONPA are available to the public on the HOMMTA web page at https://www.benning.army.mil/Garrison/DPW/EMD/HOMMTA/. The comment period will also include a public meeting that will provide an opportunity for the public to comment about the Proposed Action, Alternatives, and environmental impact analysis. Due to the COVID-19 Pandemic and the need to maintain social distancing, Fort Benning will host the public meeting by telephone. Specific details of the telephone meeting will be announced in local media and on the HOMMTA website, https://www.benning.army.mil/Garrison/DPW/EMD/HOMMTA/. The HOMMTA Draft EIS and meeting materials will be provided online at https://fortbenning.consultation.ai/. If you cannot access the meeting materials online, please submit a request to Mr. John Brown at john.e.brown12.civ@mail.mil or by mail to address provided above so materials can be sent to you. Please ensure your request is postmarked no later than June 15, 2020 so that Fort Benning can mail the meeting materials prior to the telephone meeting date. Later requests for documents will be accepted, but the requests may not be fulfilled prior to the HOMMTA telephone meeting date.

Following the public comment period, the Army will consider all public comments and prepare a Final EIS and Record of Decision prior to making any decision regarding the Proposed Action. Comments must be received or postmarked by July 13, 2020 to be considered during preparation of the Final EIS.

Brenda S. Bowen,
Army Federal Register Liaison Officer.

[FR Doc. 2020-11540 Filed 5-28-20; 8:45 am]

BILLING CODE 5061-AP-P